FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995 (44 U.S.C. chapter 35). Currently, the FDIC is soliciting comment on renewal of the information collection described below.

DATES: Comments must be submitted on or before June 24, 2013.

ADDRESSES: Interested parties are invited to submit written comments to the FDIC by any of the following methods:

• http://www.FDIC.gov/regulations/laws/federal/notices.html.

• Email: comments@fdic.gov Include the name of the collection in the subject line of the message.

• Mail: Gary A. Kuiper (202.898.3877), Counsel, Room NYA-5046, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Gary A. Kuiper, at the FDIC address above.

SUPPLEMENTARY INFORMATION: Proposal to renew the following currently-approved collections of information:

1. Title: Securities of Insured Nonmember Banks.

OMB Number: 3064-0030.

Form Numbers: 6800/03, 6800/04, and 6800/05.

Affected Public: Generally, any person subject to section 16 of the Securities Exchange Act of 1934 with respect to securities registered under 12 CFR part 335.

Estimated Number of Respondents: Form 6800/03-57; Form 6800/04-296; Form 6800/05-68.

Estimated Time per Response: Form 6800/03-1 hour; Form 6800/04-30 minutes; Form 6800/05-1 hour.

Frequency of Response: Form 6800/03-annually; Form 6800/04-quarterly; Form 6800/05-annually.

Total estimated annual burden: 717 hours

General Description of Collection: FDIC bank officers, directors, and persons who beneficially own more than 10% of a specified class of registered equity securities are required to publicly report their transactions in equity securities of the issuer.

2. Title: Activities and Investments of Savings Associations

OMB Number: 3064-0104.

Form Number: None.

Affected Public: Insured financial institutions.

Estimated Number of Respondents: 75.

Frequency of Response: On occasion.

Estimated Annual Burden Hours per Response: 5 hours.

Total estimated annual burden: 375 hours

General Description of Collection: Section 28 of the FDI Act (12 U.S.C. 1831e) imposes restrictions on the powers of savings associations, which reduce the risk of loss to the deposit insurance funds and eliminate some differences between the powers of state associations and those of federal associations. Some of the restrictions apply to all insured savings associations and some to state chartered associations only. The statute exempts some federal savings banks and associations from the restrictions, and provides for the FDIC to grant exemptions to other associations under certain circumstances. In addition, Section 18(m) of the FDI Act (12 U.S.C. 1828(m)) requires that notice be given to the FDIC prior to an insured savings association (state or federal) acquiring, establishing, or conducting new activities through a subsidiary.

3. Title: Forms Relating to Outside Counsel, Legal Support & Expert Services.

OMB Number: 3064-0122.

Affected Public: Insured financial institutions.

Estimated Number of Respondents and Burden Hours:

FDIC document | Estimated number of respondents | Estimated hours per response | Hours of burden
5000/26 | 85 | .50 | 42.5
5000/31 | 376 | .50 | 188
5000/33 | 63 | .50 | 31.5
5000/35 | 722 | .50 | 361
5200/01 | 500 | .75 | 375
5210/01 | 100 | .50 | 50
5210/02 | 55 | .50 | 22.5
5210/03 | 50 | 1.0 | 50
5210/03A | 50 | 1.0 | 50
5210/04 | 200 | 1.0 | 200
5210/04A | 200 | 1.0 | 200
5210/06 | 100 | 1.0 | 100
5210/06(A) | 100 | 1.0 | 100
5210/08 | 240 | .50 | 120
5210/09 | 100 | 1.0 | 100
5210/10 | 100 | 1.0 | 100
5210/10(A) | 100 | 1.0 | 100
5210/11 | 100 | 1.0 | 100
5210/12 | 100 | 1.0 | 100
5210/12A | 100 | 1.0 | 100
5210/14 | 100 | .50 | 50
5210/15 | 25 | .50 | 12.5
Total | 3,566 |  | 2,553

General Description of Collection: The information collected enables the FDIC to ensure that all individuals, businesses and firms seeking to provide legal support services to the FDIC meet the eligibility requirements established by Congress. The information is also used to manage and monitor payments to contractors, document contract amendments, expiration dates, billable individuals, minority law firms, and to ensure that law firms, experts, and other legal support services providers are in compliance with statutory and regulatory requirements.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 18th day of April 2013. Federal Deposit Insurance Corporation.
Robert E. Feldman,
Executive Secretary.

[FR Doc. 2013-09544 Filed 4-22-13; 8:45 am]

BILLING CODE 6714-01-P